DEPARTMENT OF THE TREASURY

Agency Information Collection Activities; Submission for OMB Review; Comment Request; Bureau of Engraving and Printing Background Investigation Request Form

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before March 3, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Bureau of Engraving and Printing (BEP)

Title: Bureau of Engraving and Printing Background Investigation Request Form.

OMB Control Number: 1520-0011.

Type of Request: Extension without change of a currently approved collection.

Description: The Bureau of Engraving and Printing, under the authority of the Secretary of the Treasury, has the responsibility to design and print U.S. currency. See 12 U.S.C. 418-421 and title 31, U.S.C., including sections 303, 321, 5114, 5119, and 5120. The Background Information Request Form is completed by applicant companies per BEP Circular 82-00.13 to establish the eligibility of each company and key personnel to gain access to test decks of new designs and production samples of Federal Reserve Notes (FRNs) or other government securities so they can update their products to denominate and/or authenticate genuine currency.

Form: BEP Background Information Request.

Affected Public: Banknote Equipment Manufacturers (BEMs) and Currency Reader Manufacturers (CRMs).

Estimated Number of Respondents: 50.

Frequency of Response: On occasion.

Estimated Total Number of Annual Responses: 50.

Estimated Time per Response: 45 minutes.

Estimated Total Annual Burden Hours: 38 hours.

Authority: 44 U.S.C. 3501 et seq.

Spencer W. Clark,
Treasury PRA Clearance Officer.

[FR Doc. 2025-02034 Filed 1-30-25; 8:45 am]

BILLING CODE 4840-01-P